TWENTY-FIRST CENTURY WORKFORCE COMMISSION

Notice of Business Meeting

AGENCY: Twenty-First Century Workforce Commission.

ACTION: Releasing the Final Report of the 21st Century Workforce Commission and a Policy Summit.

SUMMARY: This notice is to announce an event taking place on Tuesday, June 27, 2000. Members of the public are invited to attend this event. The agenda is set forth below.

The purpose of the event is the release of the Commission's Report to the President and Congress. The Commission's final report will provide an analysis of how leadership in regional partnerships of educators, employers, employees, government and community-based organizations can build a foundation of “21st Century Literacy” among Americans and effectively address shortages of individuals who are skilled for today's demanding and rewarding information technology jobs. The Commission will also host a policy summit around the major issues identified in the report. Participants in the summit will include: Elected congressional, state and local officials, educators, business leaders, employees and community leaders—many of whom participated in the Commission's six regional hearings and associated site visits.

DATES: The event will take place on Tuesday, June 27, 2000, from 9:00 a.m. to approximately 3:30 p.m. Registration is from 9:00 a.m. to 10:00 a.m. The dates, locations and times for subsequent meetings will be announced in advance in the Federal Register.

ADDRESSES: The event will take place in the United States Senate Hart Building, Room 216. All interested parties are invited to attend this event. There is no charge to attend, but advance registration is required.

FOR FURTHER INFORMATION CONTACT: Nickie McKenzie (including all requested information) by email at mckenzien@nab.com.

SUPPLEMENTARY INFORMATION:

A. Registration

Registration for this event will be coordinated by the National Alliance of Business.

Members of the public that are interested in attending the event can send email to Nickie McKenzie (including all requested information) at mckenzien@nab.com The email should contain the following information:

Name:

Title:

Organization:

Email address:

Phone:

Fax:

Street Address 1:

Street Address 2:

City:

State:

Zip:

Will attend:__morning session__ luncheon__afternoon session.

Members of the public may also Register on-line at http://www.workforce21.org/registration.html.

B. Tentative Schedule

9:30 a.m. Coffee

10:00 a.m.: Introduction and Release of Commission Report, Chairman Lawrence Perlman, Vice-Chair Kathy Clark, (Members of the press have been invited.)

11:00 a.m.: Remarks by Members of Congress, Executive Branch leadership and other invited guests on “Leadership Through Partnerships.”

Noon: Keynote speaker

1:30-3:30 p.m.: Afternoon Panelists and speakers, closing remarks.

Members of the public who are not able to attend in person, plan on viewing our live ‘web-cast’ on June 27 at WWW.WORKFORCE21.ORG. The public can register for an email reminder at the website.

(The above schedule is subject to change and general seating may be limited.)

There will be no registrations taken by telephone. For general information about the Commission and the Policy Summit, visit the Commission's website (www.workforce21.org) or contact Mr. Hans Meeder, Executive Director, Twenty-First Century Workforce Commission, 1201 New York Avenue, NW, Suite 700, Washington, DC 20005. (Telephone (202) 289-2939. TTY (202) 289-2977) These are not toll-free numbers. Email: Workforce21@nab.com.

C. Background Information

Establishment of the Twenty-First Century Workforce Commission was mandated by Subtitle C of Title III of the Workforce Investment Act, Sec. 331 of Pub. L. 105-220, 112 Stat. 1087-1091, (29 U.S.C. 2701 note), signed into law on August 7, 1998. The 15 voting member Twenty-First Century Workforce Commission is charged with studying all aspects of the information technology workforce in the United States.

Notice is hereby given of the public release of the Twenty-First Century Workforce Commission's Report to the President and Congress.

The Workforce Investment Act (Pub. L. No. 105-220), signed into law on August 7, 1998, established the Twenty-First Century Workforce Commission. The Commission is charged with carrying out a study of the information technology workforce in the U.S., including the examination of the following issues:

1. What skills are currently required to enter the information technology workforce? What technical skills will be demanded in the near future?

2. How can the United States expand its number of skilled information technology workers?

3. How do information technology education programs in the United States compare with other countries in effectively training information technology workers? [The Commission study should place particular emphasis upon contrasting secondary, non-and-post-baccalaureate degree education programs available within the U.S. and foreign countries.]

The Workforce Investment Act directs the Commission to issue recommendations to the President and Congress within six months. The Commission first met on November 16, 1999.

D. Agenda

At the Washington, D.C. event, the Commission will release its Report to the President and Congress. The Commission's final report will provide an analysis of how leadership in regional partnerships of educators, employers, employees, government and community-based organizations can build a foundation of “21st Century Literacy” among Americans and effectively address shortages of individuals who are skilled for today's demanding and rewarding information technology jobs. The Commission will also host a policy summit around the major issues identified in the report.

E. Commission Membership

The Workforce Investment Act mandates that 15 voting members be appointed by the President, Majority Leader of the Senate, and Speaker of the House (5 members each), including 3 educators, 3 state and local government representatives, 8 business representatives and 1 labor representative. The Act also mandates that the President appoint 2 ex-officio members, one each from the Departments of Labor and Education.

The Commissioners are: Chairman Lawrence Perlman, Ceridian Corporation, Minneapolis, MN; Vice Chair, Katherine K. Clark, Landmark Systems Corporation, Reston, VA; Susan Auld, Capitol Strategies, Ltd., Montpelier, VT; Morton Bahr, Communication Workers of America, Washington, DC; Patricia Gallup, PC Communications, Inc., Merrimack, NH; Dr. Bobby Garvin, Mississippi Delta Community College, Moorhead, MS; Seth D. Harris (ex officio), U.S. Department of Labor, Washington, DC; Randel Johnson, U.S. Chamber of Commerce, Washington, DC; Roger Knutsen, National Council for Higher Education, Auburn, WA; Patricia McNeil (ex officio), U.S. Department of Education, Washington, DC; The Honorable Mark Morial, Mayor, City of New Orleans, LA; Thomas Murrin, Ph.D., Duquesne University, Pittsburgh, PA; Leo Reynolds, Electronic Systems, Inc., Sioux Falls, SD; The Honorable Frank Riggs, National Homebuilders Institute, Washington, DC; The Honorable Frank Roberts, Mayor, City of Lancaster, California; Kenneth Saxe, Stambaugh-Ness, York, PA; David L. Steward, World Wide Technology, Inc., St. Louis, MO; Hans K. Meeder, Executive Director, Washington, DC.

F. Public Participation

Members of the public are invited to attend this event.

The Commission has established a web site, www.workforce21.org. Any written comments regarding documents published on this web site should be directed to Mr. Hans Meeder, as shown above.

G. Special Accommodations

Reasonable accommodations will be available. Persons needing any special assistance such as sign language interpretation, or other special accommodation, are invited to contact Mr. Hans Meeder, as shown above. Requests for accommodations must be made four days in advance of the meeting.

Due to scheduling difficulties we are unable to provide a full 15-day advance notice of this meeting.

Signed at Washington, DC this 8th day of June, 2000.
Hans K. Meeder,
Executive Director, Twenty-First Century Workforce Commission.

[FR Doc. 00-14991 Filed 6-13-00; 8:45 am]

BILLING CODE 4510-23-P